OFFICE OF PERSONNEL MANAGEMENT

Federal Salary Council; Meeting

AGENCY: Office of Personnel Management.

ACTION: Notice of Meeting.

SUMMARY: The Federal Salary Council will meet at the time and location shown below. The Council is an advisory body composed of representatives of Federal employee organizations and experts in the fields of labor relations or pay policy. A provision of law enacted in 2000 requires the President's Pay Agent (the Secretary of Labor and the Directors of the Office of Management and Budget and the Office of Personnel Management) to determine whether five additional metropolitan areas (Austin, TX, Las Vegas, NV, Louisville, KY, Nashville, TN, and Raleigh, NC) should become separate locality pay areas under the locality pay program for General Schedules employees in 2002. The law authorizes the required determinations to be made by using salary surveys conducted by the Bureau of Labor Statistics, salary survey data compiled by organizations or entities for private sector businesses, or a combination of these data sources. The Federal Salary Council will review the results of special studies directed by the Office of Personnel Management and develop recommendations for the Pay Agent on locality pay methodology as it pertains to the five metropolitan areas. The Pay Agent will submit a report to Congress later this year. The meeting is open to the public.

DATES: July 23, 2001, at 9:30 a.m.

Location: Office of Personnel Management, 1900 E Street NW., Room 5303 (Pendleton Room), Washington, DC.

FOR FURTHER INFORMATION CONTACT: Donald J. Winstead, Associate Director for Compensation Administration, Office of Personnel Management, 1900 E Street NW., Room 7H31, Washington, DC 20415-8200. Phone (202) 606-2838; FAX (202) 606-0824; or email at payleave@opm.gov.

For the President's Pay Agent.
Steven R. Cohen,
Acting Director.

[FR Doc. 01-15354 Filed 6-18-01; 8:45 am]

BILLING CODE 6325-01-P